DEPARTMENT OF COMMERCE

National Oceanic and Atmospheric Administration

[I.D. 112601B]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Groundfish Oversight Committee in December 2001. Recommendations from the Committee will be brought to the full Council for formal consideration and action, if appropriate.

DATES: The meeting will held on Monday, December 17, 2001, at 9:30 a.m.

ADDRESSES: The meeting will be held at the Holiday Inn, 31 Hampshire Street, Mansfield, MA 02048; telephone: 508-339-2200.

Council address: New England Fishery Management Council, 50 Water Street, Newburyport, MA 01950.

FOR FURTHER INFORMATION CONTACT: Paul J. Howard, Executive Director, New England Fishery Management Council; 978-465-0492.

SUPPLEMENTARY INFORMATION: The Groundfish Oversight Committee will review the draft Framework Adjustment 36 to the Northeast Multispecies Fishery Management Plan (FMP), including the Draft Supplemental Environmental Impact Statement (DSEIS). Management measures in Framework 36 are designed to reduce fishing mortality for groundfish stocks consistent with Amendment 7 to the FMP, reduce regulatory discards of Gulf of Maine cod, extend or revise the Western Gulf of Maine closed area, provide access to Closed Area II to target yellowtail flounder, expand the authorized area for the northern shrimp fishery, allow access to groundfish closed areas by tuna purse seine vessels, and increase the trip limit for the Cultivator Shoals whiting fishery. Fishing mortality must be reduced for Gulf of Maine and Georges Bank cod to meet the objectives of the FMP. Most of the measures in the framework target these reductions. Measures under consideration include (but are not limited to) changes in seasonal and year round closed areas, increases in mesh size, restrictions on the deployment or use of gear, changes in trip limits, reductions in days-at-sea or restrictions on the use of days-at-sea, and modifications to gear to reduce bycatch of cod. Regulatory changes are also being considered for the recreational fishery, including increases in minimum size limits for cod, restrictions on access to closed areas, and area closures for recreational fishers. The Groundfish Oversight Committee will review the draft framework document and analysis of impacts, and may identify a preferred alternative. The recommendations of the Committee will be considered by the full Council at a meeting on December 19, 2001. After the draft framework and DSEIS is approved by the Council, it will be available for public review and comment prior to the final selection of management measures in March 2002. After completing review of the draft Framework 36, the Committee will meet in a closed session to discuss Groundfish Advisory Panel applications.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: November 27, 2001.
Richard W. Surdi,
Acting Director, Office of Sustainable Fisheries, National Marine Fisheries Service.

[FR Doc. 01-29771 Filed 11-29-01; 8:45 am]

BILLING CODE 3510-22-S